DEPARTMENT OF THE TREASURY

Internal Revenue Service

Art Advisory Panel—Notice of Postponement of Closed Meeting

AGENCY: Internal Revenue Service, Treasury.

ACTION: Notice of Postponement of Closed Meeting of Art Advisory Panel.

SUMMARY: The closed meeting of the Art Advisory Panel which was to be held in Washington, DC on June 20, 2007 has been postponed and will be rescheduled for Fall 2007. (The date to be determined.)

FOR FURTHER INFORMATION CONTACT: Karen Carolan, C:AP:AS, 1099 14th Street, NW., Washington, DC 20005. Telephone (202) 435-5609 (not a toll free number).

Karen S. Ammons,
Deputy Chief, Appeals.

[FR Doc. E7-11612 Filed 6-14-07; 8:45 am]

BILLING CODE 4830-01-P